INTERNATIONAL TRADE COMMISSION

[Investigation Nos. 701-TA-662 and 731-TA-1554 (Final)]

Pentafluoroethane (R-125) From China; Revised Schedule for the Subject Investigations

AGENCY: United States International Trade Commission.

ACTION: Notice.

DATES: December 17, 2021.

FOR FURTHER INFORMATION CONTACT: Peter Stebbins (202-205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective August 17, 2021, the Commission established a schedule for the conduct of the final phase of the subject investigations (86 FR 50171, September 7, 2021). The Commission is revising its schedule.

The Commission's revised date in the schedule is as follows: The deadline for filing posthearing briefs is December 28, 2021. Parties may submit supplemental comments not to exceed five (5) pages in length addressing only Commerce's final countervailing and antidumping duty determinations on or before January 7, 2022; the Commission will make its final release of information on January 26, 2022; and final party comments are due on January 28, 2022.

For further information concerning these proceedings, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: December 17, 2021.
Lisa Barton,
Secretary to the Commission.

[FR Doc. 2021-27759 Filed 12-21-21; 8:45 am]

BILLING CODE 7020-02-P